DEPARTMENT OF COMMERCE

Patent and Trademark Office

[Docket No. PTO-P-2025-0019]

Updated Legal Framework for Patent Electronic System

AGENCY: United States Patent and Trademark Office, Department of Commerce.

ACTION: Notice.

SUMMARY: The United States Patent and Trademark Office (USPTO) published on its website an updated legal framework for its Patent Electronic System. The updated legal framework defines the USPTO patent electronic filing system requirements, and provides guidance on the relevant statutes, regulations, and policies that support the USPTO's Patent Electronic System. The Patent Electronic System currently comprises Patent Center. Patent Center includes both the USPTO patent electronic filing system, which is a web-based patent application and document submission system, and the USPTO's web-based means for electronically viewing the status of, and documents filed in or associated with, patent applications and proceedings. The updated legal framework also discusses the two-step authentication method now in place for accessing the Patent Electronic System. The updated legal framework serves as a reference for applicants, patentees, parties in reexamination proceedings, attorneys, and agents.

DATES: Applicability Date: September 11, 2025.

FOR FURTHER INFORMATION CONTACT:

Inquiries regarding the Patent Electronic System and other USPTO information technology (IT) systems may be directed to the Patent Electronic Business Center (Patent EBC) at 866-217-9197 (toll-free) or 571-272-4100, or at ebc@uspto.gov.

Inquiries regarding IT policy for U.S. national patent applications may be directed to Mark Polutta, Senior Legal Advisor, Office of Patent Legal Administration, at 571-272-7709; or Gena Jones, Senior Legal Advisor, Office of Patent Legal Administration, at 571-272-7727.

Inquiries regarding IT policy for international applications (PCT) may be directed to Tamara Graysay, Special Program Examiner, Office of International Patent Legal Administration, at 571-272-6728. Inquiries regarding IT policy for international design applications may be directed to Boris Milef, Senior Legal Examiner, Office of International Patent Legal Administration, at 571-272-3288.

SUPPLEMENTARY INFORMATION: On September 11, 2025, the USPTO published on its website an updated legal framework for its Patent Electronic System. The updated legal framework is available at www.uspto.gov/PatentLegalFramework. The updated legal framework defines the USPTO patent electronic filing system requirements in accordance with 37 CFR 1.6(a)(4), and provides guidance for the relevant statutes, regulations, and policies that support the USPTO's Patent Electronic System. The updated legal framework supersedes all prior versions of the legal framework. Section 502.05 of the Manual of Patent Examining Procedure will be revised in due course. The following is a brief summary of the major differences introduced by the updated legal framework:

1. Section B has been revised to require registration to use the Patent Electronic System. Section B has also been revised to clarify that third-party documents are prohibited from being filed in applications via the Patent Electronic System, unless specifically authorized and the special dedicated electronic interface, if provided, is used so that information is not directly placed into the application file.

2. Section C has been revised to clarify that the USPTO may identify an alternative electronic filing procedure, if designated by the Director, for new applications, national stage submissions under 35 U.S.C. 371, and/or other patent filings, during an unplanned outage of Patent Center. If an alternative procedure is not indicated, applicants then should follow the procedure for filing applications as previously set forth. See Filing Patent Applications Electronically During Designated Significant Outages of the United States Patent and Trademark Office Electronic Business Systems, 83 FR 44264 (August 30, 2018).

3. Section D has been revised to clarify that patent applications filed in DOCX format will be validated, and applicants will be provided relevant feedback concerning the format of their applications. Applications filed in DOCX format avoid the non-DOCX surcharge.

4. Section E has been revised to specify that all Patent Electronic System users must be registered users and that users may complete the verification process by mailing the paper verification form, completing the ID.me verification process, or by other methods designated by the Director.

5. Section L has been revised to provide that applications filed on or after July 1, 2022, that disclose a nucleotide and/or amino acid sequence as defined in 37 CFR 1.831, including applications claiming the benefit of, or priority to, an application filed before July 1, 2022, containing a sequence listing, must contain a computer readable sequence listing in XML format (“Sequence Listing XML”) in accordance with 37 CFR 1.831 through 1.835.

6. Section O has been added to provide that effective May 24, 2024, plant applications, including drawings or photographs, fees, and follow-on documents, may be filed via the Patent Electronic System.

Coke Morgan Stewart,
Acting Under Secretary of Commerce for Intellectual Property and Acting Director of the United States Patent and Trademark Office.

[FR Doc. 2025-17543 Filed 9-10-25; 8:45 am]

BILLING CODE 3510-16-P